GENERAL SERVICES ADMINISTRATION

[Notice-CECANF-2015-08; Docket No. 2015-0007; Sequence No. 8]

Commission to Eliminate Child Abuse and Neglect Fatalities; Commission to Eliminate Child Abuse and Neglect Fatalities; Announcement of Meeting

AGENCY: Commission to Eliminate Child Abuse and Neglect Fatalities.

ACTION: Meeting Notice.

SUMMARY: The Commission to Eliminate Child Abuse and Neglect Fatalities (CECANF), a Federal Advisory Committee established by the Protect Our Kids Act of 2012, Public Law 112-275, will hold a meeting open to the public on Monday, January 12, 2015 and Tuesday, January 13, 2015 in Phoenix, Arizona.

DATES: The meeting will be held on Monday, January 12, 2015, from 8:30 a.m. to 5:30 p.m., and Tuesday, January 13, from 8:30 a.m. to 12:00 p.m. Mountain Standard Time.

ADDRESSES: CECANF will convene its meeting at the Sheraton, 340 North 3rd Street, Phoenix, AZ 85004. This site is accessible to individuals with disabilities. The meeting will also be made available via teleconference and/or webinar.

Submit comments identified by “Notice-CECANF-2015-07,” by either of the following methods:

• Regulations.gov: http://www.regulations.gov. Submit comments via the Federal eRulemaking portal by searching for “Notice-CECANF-2015-08.” Select the link “Comment Now” that corresponds with “Notice-CECANF-2015-08.” Follow the instructions provided on the screen. Please include your name, organization name (if any), and “Notice-CECANF-2015-08” on your attached document.

• Mail: Commission to Eliminate Child Abuse and Neglect Fatalities, c/o General Services Administration, Agency Liaison Division, 1800 F St. NW., Room 7003D, Washington, DC 20006.

Instructions: Please submit comments only and cite “Notice-CECANF-2015-08” in all correspondence related to this notice. All comments received will be posted without change to http://www.regulations.gov, including any personal and/or business confidential information provided.

FOR FURTHER INFORMATION CONTACT: Visit the CECANF Web site at https://eliminatechildabusefatalities.sites.usa.gov/ or contact Ms. Patricia Brincefield, Communications Director, at 202-818-9596, 1800 F St. NW., Room 7003D, Washington, DC 20006.

SUPPLEMENTARY INFORMATION:

Background

CECANF was established to develop a national strategy and recommendations for reducing fatalities resulting from child abuse and neglect.

Agenda

On January 12, 2015 Commission members will meet to discuss their understanding of the issues of defining and counting child abuse and neglect fatalities and recommendations for addressing them, including: (1) What is the scope of child abuse and neglect fatalities? (2) What are the purposes of counting child abuse and neglect fatalities? (3) What data on child abuse and neglect fatalities are currently collected? (4) What are the limitations of our current data collection efforts? (5) What strategies could be implemented to improve the counting of child abuse and neglect fatalities? (6) Do definitions of child abuse and neglect fatalities need to be standardized? Commission members also will begin discussing the work plans of the six Commission subcommittees and the information that they have obtained to date. On Day 2, Commission members will continue the discussion on the work of the subcommittees.

Attendance at the Meeting

Individuals interested in attending the meeting in person or participating by webinar and teleconference must register in advance. To register to attend in person or by webinar/phone, please go to https://attendee.gotowebinar.com/rt/8552513076968099330 and follow the prompts. Once you register, you will receive a confirmation email with the webinar login and teleconference number. Detailed meeting minutes will be posted within 90 days of the meeting. Members of the public will not have the opportunity to ask questions or otherwise participate in the meeting.

However, members of the public wishing to comment should follow the steps detailed under the heading Addresses in this publication or contact us via the CECANF Web site at https://eliminatechildabusefatalities.sites.usa.gov/contact-us/.

Dated: December 19, 2014.
Amy Templeman,
Deputy Director.

[FR Doc. 2014-30261 Filed 12-29-14; 8:45 am]

BILLING CODE 6820-34-P